UNIFIED CARRIER REGISTRATION PLAN

Sunshine Act Meeting Notice; Unified Carrier Registration Plan Board of Directors Meeting

TIME AND DATE: October 17, 2019, from 9:00 a.m. to Noon, Pacific time.

PLACE: Embassy Suites—San Diego Bay Downtown, 601 Pacific Highway, San Diego, California. These meetings will also be accessible via conference call. Any interested person may call 1-866-210-1669, passcode 5253902#, to listen and participate in these meetings.

STATUS: This meeting will be open to the public.

MATTERS TO BE CONSIDERED: The Unified Carrier Registration Plan Board of Directors (the “Board”) will continue its work in developing and implementing the Unified Carrier Registration Plan and Agreement. The subject matter of the meeting will include:

Agenda

Portions Open to the Public

I. Welcome, Call to Order, and Introductions—UCR Board Chair

The UCR Board Chair will welcome attendees, call the meeting to order, call roll for the Board, and facilitate self-introductions.

II. Verification of Meeting Notice—UCR Operations Manager

The UCR Operations Manager will verify the publication of the meeting notice on the UCR website and in the Federal Register.

III. Review and Approval of Agenda and Setting of Ground Rules—UCR Board Chair

For Discussion and Possible Board Action

Agenda will be reviewed and the Board will consider adoption.

Ground Rules

• Board action only to be taken in designated areas on agenda.

• Please MUTE your telephone.

• Do NOT place call on hold.

IV. Approval of Minutes of the Aug. 1 & Sept. 5 UCR Board Meetings—UCR Board Chair

For Discussion and Possible Subcommittee Action

Minutes of the August 1, 2019 and September 5, 2019 Board meetings will be reviewed. The Board will consider action to approve.

V. Report of FMCSA—FMCSA Representative

FMCSA will provide a report on any relevant activity or rulemaking, including the recent appointments, and reappointments, of all UCR Board members, as well as any update available regarding a final rulemaking on 2020 UCR fees.

VI. UCR Executive Director Position—UCR Board Chair

For Discussion and Possible Subcommittee Action

The Board will review and consider the possible hiring of an independent contractor to serve as Executive Director. The Board may act to authorize and direct the Chair to negotiate and execute a contract for this service.

VII. Subcommittee Reports

Procedures Subcommittee

A. Proposed Amendments to UCR Refund Procedure—UCR Depository Manager

For Discussion and Possible Subcommittee Action

i. Refunds Resulting from Audits

The Board will review and consider a proposed amendment to the UCR refund procedure that would address carrier refunds issued by states that result from the findings of an audit. The Board may act to adopt the proposed amendment.

ii. Verification-Step for Permit Agents

The Board will review and consider an additional proposed amendment to the UCR refund procedure that would establish new requirements for permit agents to verify that they have the legal authority to register any given carrier-customer. The Board may act to adopt this proposed amendment.

B. Proposed Amendments to UCR Handbook—UCR Board Vice Chair

For Discussion and Possible Subcommittee Action

Proposed amendments to the UCR Handbook will be reviewed and the Board may act to adopt the amended language. The proposed amendments address the procedure for requesting, reviewing and processing carrier refunds, the situation whereby a carrier registers for UCR online and elects to pay by paper check, annual carrier audit requirements for participating states and the definition of a commercial motor vehicle.

C. Proposed Amendment to the UCR Agreement—Registration System Subcommittee Chair

For Discussion and Possible Subcommittee Action

A proposed amendment to the UCR Agreement will be reviewed and the Board may act to adopt the amended language. The proposed amendment would affect Section 10 of the UCR Agreement by clarifying the annual start and end dates of the UCR registration period.

D. Proposed Board Subcommittee Policy—UCR Administrator

For Discussion and Possible Subcommittee Action

A proposed policy to establish criteria for individuals serving on UCR Board Subcommittees, as well as the composition of the Subcommittees, will be reviewed. The Board may act to adopt the proposed policy.

E. Proposed Written Information Security Policy—Chief Legal Officer

For Discussion and Possible Subcommittee Action

A proposed policy to ensure the security, confidentiality, integrity, and availability of personal and other sensitive information collected, created, used, and maintained by the UCR, will be reviewed. The Board may act to adopt the proposed policy.

F. Proposed Incident Response Plan—Chief Legal Officer

For Discussion and Possible Subcommittee Action

A proposed policy to provide a structured and systematic incident response process for all information security incidents that affect any of the UCR's information technology systems, network, or data, including the UCR's data held or IT services provided by third-party vendors or other service providers, will be reviewed. The Board may act to adopt the proposed policy.

Audit Subcommittee

A. Report from States Delinquent on 2018 Carrier Audits—Audit Subcommittee Chair

The Board will hear report(s) from representatives in states that have not submitted an annual carrier audit report as required by the UCR Agreement. States will address their reasons for being delinquent, as well as their plan for reaching compliance.

B. Report on FY 2018 Depository Audit—UCR Depository Manager

The Board will hear a report on results of the independent financial audit of the UCR Depository for FY 2018 and have the opportunity to ask questions.

C. 2020 Proposed Audit Plan—UCR Depository Manager

For Discussion and Possible Subcommittee Action

i. State Compliance Reviews for 2020

The Board will review and possibly act to approve a proposal for conducting UCR compliance reviews for eight (8) participating states in 2020.

ii. National Registration System Financial Review

The Board will review and possibly act to approve a plan for conducting an independent financial review of the National Registration System for FY 2019.

iii. Depository Audit

The Board will consider and possibly act to approve a vendor to conduct an independent financial audit of the Depository for FY 2019.

D. Compliance Goal for Participating States—Audit Subcommittee Chair

For Discussion and Possible Subcommittee Action

The Board will consider and discuss the implications of establishing a base motor carrier registration rate annual compliance goal of 85% for all participating states. The Board may act to adopt this goal.

E. Solicitation of New and Unregistered Motor Carriers—Audit Subcommittee Chair

For Discussion and Possible Subcommittee Action

The Board will consider and discuss the implications of requiring participating states to solicit all new and unregistered motor carriers based in their state. The Board may act to adopt this requirement.

Finance Subcommittee

A. Contract Addendum with UCR Administrator—UCR Board Chair

For Discussion and Possible Subcommittee Action

The Board will review and consider the terms of a proposed contract addendum with the management firm currently serving as the UCR Administrator. The Board may act to instruct the Chair to execute the addendum.

B. Ending 2018 FARs on Dec. 31, 2019 —Finance Subcommittee Chair

For Discussion and Possible Subcommittee Action

The Board will review a proposal requiring participating states to conclude their review and processing of any focused anomaly reviews (FARs) identified for the 2018 registration year. The Board may act to adopt this recommendation.

Education and Training Subcommittee

A. Review of Timeline—Education Subcommittee Chair

The Board will receive a report on an estimated timeline of activity for the new UCR education and training program, with key milestones identified.

VIII. Updates Concerning UCR Legislation—UCR Board Chair

The UCR Board Chair will call for any updates regarding UCR Legislation since the last Board meeting.

IX. Contractor Reports

• UCR Administrator (Kellen)

The UCR Administrator will provide their monthly management report covering recent activity for the Depository, Operations, and Communications.

• DSL Transportation Services, Inc.

DSL will report on the latest data on state collections based on reporting from the Focused Anomalies Review (FARs) program.

• Seikosoft

Seikosoft will provide an update on recent/new activity related to the National Registration System.

X. Data Event Update—Chief Legal Officer

The Board will receive an update on the action items approved at its August 1, 2019 meeting related to the data event first reported to the Board at its June 4, 2019 meeting.

XI. Proposed Calendar for 2020 UCR Meetings—UCR Administrator

For Discussion and Possible Subcommittee Action

The Board will be presented a recommended calendar of proposed meetings (Board and Subcommittees) for 2020. The Board may act to adopt the calendar for 2020.

XII. Old/New Matters—UCR Board Chair

The UCR Board Chair will call for any business, old or new, from the floor.

XIII. Adjourn

UCR Board Chair will adjourn the meeting.

This agenda will be available no later than 5:00 p.m. Eastern daylight time, October 7, 2019 at: https://ucrplan.org.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2019-22244 Filed 10-7-19; 4:15 pm]

BILLING CODE 4910-YL-P